DEPARTMENT OF AGRICULTURE

Office of the Secretary

Privacy Act of 1974: Notice of Computer Matching Agreement Between Food Nutrition Service (FNS) and State Agencies Administering the Supplemental Nutrition Assistance Program (SNAP)

AGENCY: Food and Nutrition Service, USDA.

ACTION: Notice of proposed new Computer Matching Agreement.

SUMMARY: In accordance with the Privacy Act of 1974, as amended by the Computer Matching and Privacy Protection Act of 1988 (Pub. L. 100503), Office of Management and Budget (OMB) Guidelines on the Conduct of Matching Programs (54 FR 25818 published June 19, 1989), and OMB Circular No. A130, revised November 28, 2000, the USDA, Food and Nutrition Service is publishing notice of its intent to conduct a computer matching program with the State agencies of all 50 States and the State agencies of the District of Columbia and the territories of Guam and the Virgin Islands administering the Supplemental Nutrition Assistance Program (SNAP). Under this matching program, FNS will provide records from the Electronic Disqualified Recipient System (eDRS) to State agencies to verify SNAP recipient (applicants and individuals being certified or recertified for eligibility) eligibility for SNAP benefits.

DATES: The effective date of this Computer Matching Agreement will begin 30 days from the publication date in the Federal Register or 30 days from the date copies of the approved agreement and the notice of the matching program are sent to the Congressional committee of jurisdiction under subsections (0)(2)(B) and (r) of the Privacy Act, as amended, or 30 days from the date the approved agreement is sent to the Office of Management and Budget, whichever is later, provided no comments are received which result in a contrary determination.

ADDRESSES: State Administration Branch, Program Accountability and Administration Division, Supplemental Nutrition Assistance Program, 3101 Park Center Drive, Room 818, Alexandria, Virginia 22302.

FOR FURTHER INFORMATION CONTACT: Jane Duffield, (703) 605-4385.

SUPPLEMENTARY INFORMATION:

FNS Computer Matching Program Subject to the Privacy Act

The purpose of this FNS Computer Matching Program is to provide and disclose information about individuals disqualified from the program to the State agency in order to allow the State agency to assist the State agency in determining eligibility status of individuals applying for or receiving program benefits and to assign the correct disqualification periods for individuals determined to be disqualified from the program.

Notice of Computer Matching Program

The States will match SNAP recipient records with eDRS to verify the recipient's eligibility for SNAP benefits.

A. Participating Agencies

The U.S. Department of Agriculture FNS and the State agencies of all 50 States, including the State agencies of the District of Colombia and the territories of Guam and the Virgin Islands.

B. Purpose of the Matching Program

The State agencies shall use eDRS to conduct matches as specified in 7 CFR 273.16 on initial program applications prior to certification and to ascertain the appropriate penalty to impose based on past disqualifications in a case under consideration.

C. Authority for Conducting the Matching Program

The legal authority for conducting the matching program is the Food and Nutrition Act of 2008, as amended. Section 6(b) of the Act, 7 U.S.C. 2015(b), prescribes mandatory periods of ineligibility for persons found on one or more occasions to have committed fraud, misrepresentation, or other violation of statute or regulation in connection with SNAP eligibility and use of benefits. Section 6(b)(4), prescribes regulations to ensure that appropriate State and Federal entities forward information concerning determinations rising out of such proscribed activity by a specific individual. The States agencies shall also use eDRS to conduct matches as specified in 7 CFR 273.16 on initial program application prior to certification.

D. Categories of Records and Individuals Covered

The State agency agrees to the following:

1. To update eDRS at least monthly with information on individuals disqualified from the program. The specific data elements that will be reported on such individuals are full name, Social Security Number, date of birth, sex, State and locality in which the disqualification was either determined or implemented, disqualification number, disqualification length, decision date, disqualification start date, and a State case identification number if used. The State will also provide the title, organization, and phone number of the contacts which will verify the information submitted for each locality identified in the records it submits. This information is supplied with the initial eDRS record and is updated if the contact information changes or if additional localities are added.

2. To obtain information from eDRS on the disqualification status of individuals against whom a disqualification period will be assessed in accordance with the provisions of 7 CFR 273.16.

3. To determine the eligibility of individuals applying for program benefits or to verify the continuing eligibility of individuals already participating.

FNS agrees to provide records from the eDRS to all State agencies.

E. Effective Dates of the Matching Program

The effective date of this Computer Matching Agreement will begin 30 days from the publication date in the Federal Register or 30 days from the date copies of the approved agreement and the notice of the matching program are sent to the Congressional committee of jurisdiction under subsections (0)(2)(B) and (r) of the Privacy Act, as amended, or 30 days from the date the approved agreement is sent to the Office of Management and Budget, whichever is later, provided no comments are received which result in a contrary determination.

F. Address for Receipt of Public Comments

Individuals wishing to comment on this matching program should send comments to Jane Duffield, Chief, State Administration Branch, Program Accountability and Administration Division, Supplemental Nutrition Assistance Program, Room 818, Alexandria, Virginia 22302, (703) 605-4385, Jane.Duffield@fns.usda.gov.

Dated: January 5, 2017.
Thomas J. Vilsack,
Secretary.

[FR Doc. 2017-00596 Filed 1-12-17; 8:45 am]

BILLING CODE 3410-30-P